DEPARTMENT OF LABOR

Employment and Training Administration

[TA-W-73,420A]

Alticor, Inc., Including Access Business Group International, LLC, and Amway Corporation, Including On-Site Leased Workers from Otterbase, Manpower, Kforce and Robert Half, Ada, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 12, 2010, applicable to workers of Alticor, Inc., including Access Business Group International, LLC and Amway Corporation. The notice was published in the Federal Register on May 12, 2010 (75 FR 26794-26795).

At the request of the Company, the Department reviewed the certification for workers of the subject firm. The workers are engaged in activities related to financial and procurement.

The company reports that workers leased from Otterbase, Manpower, Kforce and Robert Half were employed on-site at the Ada, Michigan location of Alticor, Inc., including Access Business Group International, LLC and Amway Corporation. The Department has determined that these workers were sufficiently under the control of the subject firm to be considered leased workers.

Based on these findings, the Department is amending this certification to include workers leased from Otterbase, Manpower, Kforce and Robert Half working on-site at the Ada, Michigan location of Alticor, Inc., including Access Business Group International, LLC and Amway Corporation.

The amended notice applicable to TA-W-73,420A is hereby issued as follows:

All workers of Alticor, Inc., including Access Business Group International, LLC and Amway Corporation, Buena Park, California, (TA-W-73-420) and Alticor, Inc., including Access Business Group International, LLC and Amway Corporation, including on-site leased workers from Otterbase, Manpower, Kforce and Robert Half, Ada, Michigan, (TA-W-73-420A), who became totally or partially separated from employment on or after February 1, 2009, through April 28, 2012, and all workers in the group threatened with total or partial separation from employment on the date of certification through two years from the date of certification, are eligible to apply for adjustment assistance under Chapter 2 of Title II of the Trade Act of 1974, as amended.

Signed at Washington, DC this 24th day of May 2010.
Elliott S. Kushner,
Certifying Officer, Division of Trade Adjustment Assistance.

[FR Doc. 2010-13505 Filed 6-4-10; 8:45 am]

BILLING CODE 4510-FN-P